DEPARTMENT OF JUSTICE

Antitrust Division

Notice Pursuant to the National Cooperative Research and Production Act of 1993—Intellegere Foundation

Notice is hereby given that, on April 7, 2010, pursuant to Section 6(a) of the National Cooperative Research and Production Act of 1993, 15 U.S.C. 4301 et seq. (“the Act”), Intellegere Foundation has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Intellegere Foundation, Oak Hill, VA; ManTech International Corporation, Fairmont, WV; and West Virginia University, Morgantown, WV. The general area of Intellegere Foundation's planned activity is (a) to facilitate scientific collaboration by addressing challenges of national security; (b) to promote participation of non-traditional private sector and academic enterprises; (c) to support the spectrum of R&D and life cycle needs of armament systems; (d) to engage and involve capable small/medium size enterprises; (e) to work together as a joint government-industry-academia team; (f) to leverage government expertise/knowledge with private sector/academic abilities; to address technical issues of national importance.

Patricia A. Brink,
Deputy Director of Operations, Antitrust Division.

[FR Doc. 2010-10457 Filed 5-5-10; 8:45 am]

BILLING CODE 4410-11-M